ENVIRONMENTAL PROTECTION AGENCY

[FRL-11874-01-OAR]

Renewable Fuel Standard (RFS) Program Compliance; Rescheduled Webinar on Biogas Regulatory Reform Rule

AGENCY: Environmental Protection Agency (EPA).

ACTION: Notification of rescheduled webinar.

SUMMARY: The Environmental Protection Agency (EPA) is announcing that it is rescheduling the date of the public webinar on the Biogas Regulatory Reform Rule (BRRR) provisions of the Renewable Fuel Standard (RFS) program from April 4, 2024, to April 12, 2024.

DATES: The webinar will be held on April 12, 2024, from 11 a.m.-3:30 p.m., Eastern Time. Additional information regarding the workshop appears below under SUPPLEMENTARY INFORMATION.

ADDRESSES: All attendees must pre-register for the webinar by notifying the contact person listed under FOR FURTHER INFORMATION CONTACT by April 8, 2024. If you had already registered for the original webinar date, then you do not need to register again if you are able to attend on the rescheduled date. Additional information related to the webinar will be posted at: https://www.epa.gov/renewable-fuel-standard-program/rfs-set-rule-implementation-webinars. Interested parties should check the website for any updated information.

FOR FURTHER INFORMATION CONTACT: Nick Parsons, Office of Transportation and Air Quality, Assessment and Standards Division, Environmental Protection Agency; telephone number: (734) 214-4479; email address: RFS-Hearing@epa.gov.

SUPPLEMENTARY INFORMATION: EPA is hosting a public webinar to discuss the implementation of the Biogas Regulatory Reform Rule (BRRR) provisions promulgated as part of the Renewable Fuel Standard (RFS) final rule for 2023-2025 (the “Set Rule”).¹ These regulatory provisions include registration and reporting, and updated regulatory provisions for the production, distribution, and use of biogas as a renewable fuel.

¹ 88 FR 44468 (July 12, 2023).

The webinar was originally scheduled for April 4, 2024, and was announced by a Federal Register notice dated March 6, 2024.² The webinar is being rescheduled and will be held on April 12, 2024. Those who have already registered for the original webinar date do not need to re-register if they are able to attend on the rescheduled date.

² 89 FR 15988 (March 6, 2024).

During the webinar, EPA intends to discuss various aspects of the BRRR program, including:

• The implementation timeline for BRRR.

• An implementation overview of the BRRR program.

• EPA Central Data Exchange (CDX) registration for biogas producers, renewable natural gas (RNG) producers, RNG RIN separators, and performing required associations.

• Alternative measurement protocols.

• A curated question and answer session.

EPA will post an agenda approximately one week before the webinar at: https://www.epa.gov/renewable-fuel-standard-program/rfs-set-rule-implementation-webinars. Interested parties should check this website for any updated information.

If you require the services of an interpreter or special accommodations such as audio description, please pre-register for the webinar and describe your needs by April 8, 2024. EPA may not be able to arrange accommodations without advance notice. If you had already registered and informed us of the need for an interpreter or special accommodations, then you do not need to notify us again if you are able to attend on the rescheduled date.

Byron Bunker,
Director, Compliance Division, Office of Transportation and Air Quality.

[FR Doc. 2024-07052 Filed 4-2-24; 8:45 am]

BILLING CODE 6560-50-P